DEPARTMENT OF HOMELAND SECURITY

Federal Emergency Management Agency

[Docket ID: FEMA-2023-0016; OMB No. 1660-NW165]

Agency Information Collection Activities: Proposed Collection; Comment Request; Emergency Information Collection Request

AGENCY: Federal Emergency Management Agency, Department of Homeland Security.

ACTION: 14-Day notice of new collection and request for comments.

SUMMARY: The Federal Emergency Management Agency, as part of its continuing effort to reduce paperwork and respondent burden, invites the general public to take this opportunity to comment on a new information collection/emergency information collection. In accordance with the Paperwork Reduction Act of 1995, this notice seeks comments concerning the following Grant Programs Directorate instruments: Shelter and Services Program (SSP) Application Worksheet; Shelter and Services Program (SSP) Federal Emergency Management Agency A-Number Submission Template, Shelter and Services Program (SSP) Program-Specific Required Forms and Information; State and Local Cybersecurity Grant Program (SLCGP) Investment Justification Form; and State and Local Cybersecurity Grant Program Project Worksheet (SLCGP). The information is used by FEMA's Grants Programs Directorate to evaluate applications, monitor grants for performance and compliance, and respond to requests from Congress.

DATES: Comments must be submitted on or before June 23, 2023.

ADDRESSES: Please follow the instructions for submitting comments.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of www.regulations.gov. Submit comments at www.regulations.gov under Docket ID FEMA-2023-0016. Follow the instructions for submitting comments.

FOR FURTHER INFORMATION CONTACT: Regarding the Shelter and Services Program (SSP): Amy Bulgrien, Senior Advisor Resilience/GPD/Office of Grants Administration, FEMA at (202) 880-7522 or amy.bulgrien@fema.dhs.gov. Regarding the State and Local Cybersecurity Grant Program (SLCGP): Lisa Nine, Senior Program Analyst Resilience/GPD/Office of Grants Administration, FEMA at (202) 706-3176 or Lisa.nine@fema.dhs.gov. You may contact the Information Management Division for copies of the proposed collection of information at email address: FEMA-Information-Collections-Management@fema.dhs.gov.

SUPPLEMENTARY INFORMATION: On December 29, 2022, the President signed the Consolidated Appropriations Act, 2023 (Pub. L. 117-328) (“Omnibus”), which includes statutory appropriations for SSP. The purpose of this authority is to “support sheltering and related activities provided by non-federal entities, including facility improvements and construction, in support of relieving overcrowding in short-term holding facilities of Customs and Border Protection.” Because FEMA is responsible for implementing and ensuring compliance with these programs, and Congress authorized $1.2 billion in FY 2023 in funding to support these programs, FEMA requests an emergency approval to collect the necessary information from eligible entities to administer the award processes.

The SSP is a grant program in DHS that makes federal funds available to enable state and local governments, federally recognized tribal governments, and non-governmental organizations to off-set allowable costs incurred for services associated with noncitizen arrivals in their communities. The SSP supports the FY 2020-2024 DHS Strategic Plan, Goal 5: Strengthen Preparedness and Resilience, Objective 5.1: Build a National Culture of Preparedness, and the 2022-2026 FEMA Strategic Plan Goal 3: Promote and Sustain a Ready FEMA and Prepared Nation.

The authority for this grant program is derived from:

• Consolidated Appropriations Act, 2023 (“the Omnibus”)

• 2 CFR part 200

On November 15, 2021, the Infrastructure Investment and Jobs Act (IIJA), which amends Section 2220A of the Homeland Security Act of 2002 to include statutory language for cybersecurity grant programs, became a law. The purpose of this authority is to “award grants to eligible entities to address cybersecurity risks and cybersecurity threats to information systems owned or operated by, or on behalf of state, local, or tribal governments.” The purpose of the State and Local Cybersecurity Grant Program (SLCGP) is to provide funding to state, local, tribal, and territorial (SLTT) governments to address cybersecurity risks and cybersecurity threats to SLTT-owned or operated information systems.

The authority for this grant program is derived from:

• Section 2220A of the Homeland Security Act of 2002, as amended (Pub. L. 107-296) (6 U.S.C. 665g)

• Section 70612 of the Infrastructure Investments and Jobs Appropriations Act (Pub. L. 117-58)

• 2 CFR part 200

Collection of Information

Title: FEMA Grant Programs Directorate Programs.

Type of Information Collection: New Information Collection/Emergency Information Collection Request.

OMB Number: 1660-NW165.

FEMA Forms:

FEMA Form FF-008-FY-23-105, Shelter and Services Program (SSP) Application Worksheet.

FEMA Form Number FF-008-FY-23-106, Shelter and Services Program (SSP) Federal Emergency Management Agency A-Number Submission Template.

FEMA Form Number FF-008-FY-23-107, Shelter and Services Program (SSP) Program-Specific Required Forms and Information.

FEMA Form FF-008-FY-23-103, State and Local Cybersecurity Grant Program (SLCGP) Investment Justification Form.

FEMA Form Number FF-008-FY-23-104, State and Local Cybersecurity Grant Program (SLCGP) Project Worksheet.

Abstract: It is vital that FEMA implement the information collection as soon as possible to support immediate needs in response to delivering and supporting grant programs that help the Nation before, during, and after disasters in order to make the country more resilient. In accordance with the Paperwork Reduction Act (PRA) and the Office of Management and Budget's (OMB) implementing regulations at 5 CFR 1320.13: (1) this information is necessary to the mission of the Agency, (2) this information is necessary prior to the expiration of time periods established under PRA, (3) public harm is reasonably likely to result if normal clearance procedures are followed, and (4) the use of normal clearance procedures is reasonably likely to cause a statutory deadline to be missed.

Shelter and Services Program (SSP) Application Worksheet

As part of the FY 2023 Shelter and Services Program (SSP) application process, applicants must complete a formal application worksheet that addresses the evaluation criteria specified in the NOFO and provides additional information and certifications. The SSP is authorized in the Consolidated Appropriations Act, 2023 (Pub. L. 117-328). The Federal Emergency Management Agency (FEMA) has developed guidelines that ensure submissions are organized in a consistent manner while addressing key data requirements. This application worksheet template may be used by applicants to complete and submit their application. Failure to address these data elements in the prescribed format could potentially result in the rejection of the application worksheet from review consideration.

Shelter and Services Program (SSP) Federal Emergency Management Agency A-Number Submission Template

For reimbursement and advanced funding requests, applicants are required to collect, track and report Alien Registration Numbers (A-Numbers) or evidence of DHS processing (e.g., I-94, I-385, I-860, I-862) and release dates for all noncitizen migrants served by SSP funding. This includes a summary list reporting A-Numbers (where available), names, corresponding DHS release dates, and corresponding service dates.

Shelter and Services Program (SSP) Program-Specific Required Forms and Information

In addition to the application worksheet, applicants must submit a variety of forms and information with their funding request. The list of requested information includes Form 990s when applicable, rental agreements for applicants who are requesting funding for renovations or modifications to existing facilities, and proof of purchase documentation for reimbursement requests.

State and Local Cybersecurity Grant Program (SLCGP) Investment Justification (IJ)

As part of the FY 2023 SLCGP application process, applicants must develop and submit no more than four Investment Justification forms, corresponding to each of the four SLCGP objectives described in the Notice of Funding Opportunity (NOFO). The IJ acts as a program narrative, where the applicant describes how their investments will address existing cybersecurity gaps, risks, and threats; how each investment aligns to the SLCGP Objectives; and how each project within an investment will align to the 16 cybersecurity elements described in the NOFO. The IJ concludes with an implementation schedule, a planning tool for applicants to describe the key activities and milestones associated with each project. This schedule gives applicants the ability to categorize each project within main processes of the Project Management life cycle (e.g., initiate, execute, control, or close out) to allow for ease of management, reporting, and monitoring purposes.

State and Local Cybersecurity Grant Program (SLCGP) Project Worksheet (PW)

In addition to the IJ, applicants for FY2023 SLCGP funding must submit a Project Worksheet. This tool captures baseline project and budget information at the time of application. For each project, the applicant must describe each project, categorize each project within one of the objectives described in the FY 2023 SLCGP NOFO, quantify the amount to be spent for planning, organization, equipment, training and exercises (POETE) activities, identify their proposed management and administrative costs, determine whether the project builds sustain existing core capabilities or builds new core capabilities. The projects identified in this worksheet must align to the applicant's Cybersecurity Plan.

Affected Public: Affected public includes: business entity (business contact information only), not for profit institutions, state, local and tribal governments.

Estimated Number of Respondents: The estimated total number of respondents is 18.

Estimated Number of Responses: The estimated total number of responses is 18.

Estimated Total Annual Burden Hours: The estimated total annual burden hours is 186 hours.

Estimated Total Annual Respondent Cost: The estimated total annual respondent cost is $10,438.00.

Estimated Respondents' Operation and Maintenance Costs: There are no capital, start-up, maintenance, or operating costs for respondents associated with this collection.

Estimated Respondents' Capital and Start-Up Costs: There are no capital, start-up, maintenance, or operating costs for respondents associated with this collection.

Estimated Total Annual Cost to the Federal Government: The total cost to the federal government is $4,646,398.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-12345 Filed 6-8-23; 8:45 am]

BILLING CODE 9111-78-P